DEPARTMENT OF TRANSPORTATION

Office of the Secretary

Aviation Proceedings, Agreements Filed During the Week Ending May 31, 2002

The following Agreements were filed with the Department of Transportation under the provisions of 49 U.S.C. sections 412 and 414. Answers may be filed within 21 days after the filing of the application.

Docket Number: OST-2002-12418.

Date Filed: May 30, 2002.

Parties: Members of the International Air Transport Association.

Subject:

PTC31 SOUTH 0124, dated 24 May 2002

TC31 South Pacific (except between New Zealand and USA) Expedited Resolution 311s.

Dorothy Y. Beard,
Federal Register Liaison.

[FR Doc. 02-15144 Filed 6-14-02; 8:45 am]

BILLING CODE 4910-62-P